DEPARTMENT OF COMMERCE

International Trade Administration

[C-570-074]

Common Alloy Aluminum Sheet From the People's Republic of China: Final Results of the First Expedited Sunset Review of the Countervailing Duty Order on Common Alloy Aluminum Sheet From the People's Republic of China

AGENCY: Enforcement and Compliance, International Trade Administration, Department of Commerce.

SUMMARY: The U.S. Department of Commerce (Commerce) finds that revocation of the countervailing duty (CVD) order on common alloy aluminum sheet (aluminum sheet) from the People's Republic of China (China) would likely lead to the continuation or recurrence of countervailable subsidies at the levels indicated in the “Final Results of Sunset Review” section of this notice.

DATES: Applicable May 7, 2024.

FOR FURTHER INFORMATION CONTACT: Theodora Mattei, AD/CVD Operations, Office VI, Enforcement and Compliance, International Trade Administration, U.S. Department of Commerce, 1401 Constitution Avenue NW, Washington, DC 20230; telephone: (202) 482-4834.

SUPPLEMENTARY INFORMATION:

Background

On February 6, 2019, Commerce published in the Federal Register the CVD Order.¹ On January 2, 2024, Commerce published in the Federal Register the notice of initiation of the first five-year sunset review of the Order pursuant to section 751(c) of the Tariff Act of 1930, as amended (the Act).² On January 9, 2024, we received a timely notice of intent to participate in this sunset review from the Aluminum Association Common Alloy Aluminum Sheet Trade Enforcement Working Group and its individual members (Domestic Industry) within the deadline specified in 19 CFR 351.218(d)(1)(i).³ The Domestic Industry claimed interested party status pursuant to 19 CFR 351.102(b)(29)(viii) and section 771(9)(E) of the Act.

¹ See Common Alloy Aluminum Sheet from the People's Republic of China: Countervailing Duty Order, 84 FR 2157 (February 6, 2019) (Order).

² See Initiation of Five-Year (Sunset) Reviews, 89 FR 66 (January 2, 2024).

³ See Domestic Industry's Letter, “Notice of Intent to Participate,” dated January 9, 2024.

On February 1, 2024, Commerce received an adequate substantive response from the Domestic Industry within the 30-day deadline specified in 19 CFR 351.218(d)(3)(i).⁴ Commerce received no substantive responses from any other interested parties, including the Government of China, nor was a hearing requested. On February 22, 2024, Commerce notified the U.S. International Trade Commission that it did not receive an adequate substantive response from other interested parties.⁵ As a result, in accordance with section 751(c)(3)(B) of the Act and 19 CFR 351.218(e)(1)(ii)(C)(2), Commerce conducted an expedited i.e., 120-day, sunset review of the Order.

⁴ See Domestic Industry's Letter, “Substantive Response to the Notice of Initiation,” dated February 1, 2024.

⁵ See Commerce's Letter, “Sunset Reviews for January 2024,” dated February 22, 2024.

Scope of the Order

The product covered by the scope of the Order is common alloy aluminum sheet from China. A complete description of the scope of the Order is contained in the Issues and Decision Memorandum.⁶

⁶ See Memorandum, “Decision Memorandum for the Final Results of the First Expedited Sunset Review of the Countervailing Duty Order on Common Alloy Aluminum Sheet from the People's Republic of China,” dated May 1, 2024 (Issues and Decision Memorandum).

Analysis of Comments Received

A complete discussion of all issues raised in this sunset review, including the likelihood of the continuation or recurrence of subsidization in the event of revocation of the Order and the countervailable subsidy rates likely to prevail if the Order were to be revoked, is provided in the Issues and Decision Memorandum. A list of the topics discussed in the Issues and Decision Memorandum is included in the Appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would likely lead to the continuation or recurrence of countervailable subsidies at the following rates:

Company | Subsidy rate (percent ad valorem)
Yong Jie New Material Co., Ltd | 57.00
Henan Mingtai Industrial Co., Ltd./Zhengzhou Mingtai Industry Co | 48.46
All Others | 52.73

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results of expedited sunset review and this notice in accordance with sections 751(c), 752(b), and 777(i)(1) of the Act, and 19 CFR 351.218.

Dated: May 1, 2024.
Ryan Majerus,
Deputy Assistant Secretary for Policy and Negotiations, performing the non-exclusive functions and duties of the Assistant Secretary for Enforcement and Compliance.

Appendix—

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Expedited Sunset Review

VIII. Recommendation

[FR Doc. 2024-09921 Filed 5-6-24; 8:45 am]

BILLING CODE 3510-DS-P